INTERNATIONAL TRADE COMMISSION

[Investigations Nos. 731-TA-846-850 (Final)]

Certain Seamless Carbon and Alloy Steel Standard, Line, and Pressure Pipe From the Czech Republic, Japan, Mexico, Romania, and South Africa

AGENCY: United States International Trade Commission.

ACTION: Revised schedule for the subject investigations.

EFFECTIVE DATE: May 12, 2000.

FOR FURTHER INFORMATION CONTACT: Bob Carr (202-205-3402), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On May 3, 2000, the Department of Commerce notified the Commission of its final determinations with regard to Japan and South Africa. The Commission must make its final determinations in antidumping investigations within 45 days after notification of Commerce's final determinations, or in this case by June 16, 2000. The Commission is revising its schedule to conform with this statutory deadline.

The Commission's new schedule for these investigations is as follows: the Commission will make its final release of information on May 31, 2000; and final party comments are due on June 5, 2000.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: May 16, 2000.
By order of the Commission.
Donna R. Koehnke
Secretary.

[FR Doc. 00-12679 Filed 5-18-00; 8:45 am]

BILLING CODE 7020-02-P